DEPARTMENT OF DEFENSE

GENERAL SERVICES ADMINISTRATION

NATIONAL AERONAUTICS AND SPACE ADMINISTRATION

48 CFR Chapter 1

[Docket No. FAR 2015-0051, Sequence No. 6]

Federal Acquisition Regulation; Federal Acquisition Circular 2005-86; Introduction

AGENCY: Department of Defense (DoD), General Services Administration (GSA), and National Aeronautics and Space Administration (NASA).

ACTION: Summary presentation of interim and final rules.

SUMMARY: This document summarizes the Federal Acquisition Regulation (FAR) rules agreed to by the Civilian Agency Acquisition Council and the Defense Acquisition Regulations Council (Councils) in this Federal Acquisition Circular (FAC) 2005-86. A companion document, the Small Entity Compliance Guide (SECG), follows this FAC. The FAC, including the SECG, is available via the Internet at http://www.regulations.gov.

DATES: For effective dates see the separate documents, which follow.

FOR FURTHER INFORMATION CONTACT: The analyst whose name appears in the table below in relation to the FAR case. Please cite FAC 2005-86 and the specific FAR case number. For information pertaining to status or publication schedules, contact the Regulatory Secretariat at 202-501-4755.

Rules Listed in FAC 2005-86
Item | Subject | FAR Case | Analyst
I | Definition of “Multiple-Award Contract” | 2015-019 | Uddowla.
II | Sole Source Contracts for Women-Owned Small Businesses (Interim) | 2015-032 | Uddowla.
III | New Designated Countries—Montenegro and New Zealand | 2015-034 | Davis.
IV | Trade Agreements Thresholds | 2016-001 | Davis.

SUPPLEMENTARY INFORMATION: Summaries for each FAR rule follow. For the actual revisions and/or amendments made by these rules, refer to the specific item numbers and subjects set forth in the documents following these item summaries. FAC 2005-86 amends the FAR as follows:

Item I—Definition of “Multiple-Award Contract” (FAR Case 2015-019)

This rule amends the FAR to define “multiple-award contract.” This rule implements the definition established by the Small Business Administration (SBA) in its final rule that published in the Federal Register at 78 FR 61114 on October 2, 2013. SBA's final rule implements the statutory definition of the term from section 1311 of the Small Business Jobs Act of 2010, Pub. L. 111-240.

This final rule does not place any new requirements on small entities.

Item II—Sole Source Contracts for Women-Owned Small Businesses (FAR Case 2015-032) (Interim)

This interim rule amends the FAR to implement regulatory changes made by the Small Business Administration (SBA) in its final rule as published in the Federal Register at 80 FR 55019, on September 14, 2015. SBA's final rule implements the statutory requirements of paragraph (a)(3) of section 825 of the Carl Levin and Howard P. `Buck' McKeon National Defense Authorization Act for Fiscal Year 2015, Public Law 113-291, which grants contracting officers the authority to award sole source contracts to economically disadvantaged women-owned small business (EDWOSB) concerns and to women-owned small business (WOSB) concerns eligible under the WOSB Program. The anticipated price, including options, must not exceed $6.5 million for manufacturing NAICS codes, or $4 million for other NAICS codes.

This interim rule may have a positive economic impact on women-owned small businesses.

Item III—New Designated Countries—Montenegro and New Zealand (FAR Case 2015-034)

This final rule amends the FAR to add Montenegro and New Zealand as new designated countries under the World Trade Organization Government Procurement Agreement (WTO GPA). The rule also updates the list of parties to the Agreement on Trade in Civil Aircraft by adding Montenegro.

This final rule has no significant impact on the Government and contractors, including small business entities.

Item IV—Trade Agreements Thresholds (FAR Case 2016-001)

This final rule amends the FAR to adjust the thresholds for application of the World Trade Organization Government Procurement Agreement and the Free Trade Agreements as determined by the United States Trade Representative, according to a pre-determined formula under the agreements.

Dated: December 17, 2015.
William Clark,
Director, Office of Government-wide Acquisition Policy, Office of Acquisition Policy, Office of Government-wide Policy.

Federal Acquisition Circular (FAC) 2005-86 is issued under the authority of the Secretary of Defense, the Administrator of General Services, and the Administrator for the National Aeronautics and Space Administration.

Unless otherwise specified, all Federal Acquisition Regulation (FAR) and other directive material contained in FAC 2005-86 is effective December 31, 2015 except for item I and III which are effective February 1, 2016, and item IV which is effective January 1, 2016.

Dated: December 18, 2015.
Althea H. Coetzee, RADM,
Acting Director, Defense Procurement and Acquisition Policy.
Dated: December 16, 2015.
Jeffrey A. Koses,
Senior Procurement Executive/Deputy CAO, Office of Acquisition Policy, U.S. General Services Administration.
Dated: December 16, 2015.
William P. McNally,
Assistant Administrator, Office of Procurement National Aeronautics and Space Administration.

[FR Doc. 2015-32426 Filed 12-30-15; 8:45 am]

BILLING CODE 6820-EP-P